DEPARTMENT OF THE TREASURY

United States Mint

Pricing for Certain United States Mint Products

AGENCY: United States Mint, Department of the Treasury.

ACTION: Notice.

SUMMARY: The United States Mint is announcing the price of First Spouse Bronze Medals and 2010 First Spouse Bronze Medal Series: Four-Medal Set.

The 2010 First Spouse Bronze Medals, featuring Abigail Fillmore, Jane Pierce, Buchanan's Liberty and Mary Todd Lincoln, will be priced at $5.50 each. The first medal in the 2010 series, featuring Abigail Fillmore, will be released March 18, 2010. This price will apply to all First Spouse Medals currently on sale, effective March 18, 2010.

The 2010 First Spouse Bronze Medal Series: Four-Medal Set will be priced at $15.95 and will contain all four 2010 First Spouse Bronze Medals. The release date for this set will be available on the United States Mint Web site.

FOR FURTHER INFORMATION CONTACT: B.B. Craig, Associate Director for Sales and Marketing, United States Mint, 801 9th Street NW., Washington, DC 20220; or call 202-354-7500.

Authority: 31 U.S.C. 5111, 5112 & 9701.

Dated: March 12, 2010.
Edmund C. Moy,
Director, United States Mint.

[FR Doc. 2010-6041 Filed 3-18-10; 8:45 am]

BILLING CODE P